DEPARTMENT OF ENERGY

Federal Energy Regulatory Commission

Combined Notice of Filings #1

January 06, 2011.

Take notice that the Commission received the following electric rate filings:

Docket Numbers: ER04-449-023.

Applicants: New York Independent System Operator, Inc.

Description: Compliance Filing of New York Independent System Operator, Inc.

Filed Date: 01/04/2011.

Accession Number: 20110104-5141.

Comment Date: 5 p.m. Eastern Time on Tuesday, January 25, 2011.

Docket Numbers: ER10-2295-000.

Applicants: WSPP Inc.

Description: Errata to Response to October 26, 2010 Request for Additional Information.

Filed Date: 01/06/2011.

Accession Number: 20110106-5068.

Comment Date: 5 p.m. Eastern Time on Thursday, January 27, 2011.

Docket Numbers: ER10-2912-001.

Applicants: Alliance for Cooperative Energy Services.

Description: Notice of Non-Material Change in Status of the Alliance for Cooperative Energy Services Power Marketing LLC.

Filed Date: 01/05/2011.

Accession Number: 20110105-5128.

Comment Date: 5 p.m. Eastern Time on Wednesday, January 26, 2011.

Docket Numbers: ER11-1973-001.

Applicants: Wildorado Wind, LLC, Golden Spread Panhandle Wind Ranch, LLC.

Description: Wildorado Wind, LLC submits tariff filing per 35.17(b): Revised Assignment, Contenancy and Common Facilities Agreement with Succession to be effective 10/14/2010.

Filed Date: 12/09/2010.

Accession Number: 20101209-5107.

Comment Date: 5 p.m. Eastern Time on Thursday, January 13, 2010.

Docket Numbers: ER11-2159-001.

Applicants: Verso Maine Energy LLC.

Description: Verso Maine Energy LLC submits tariff filing per 35: Amendment to Market-Based Rate Tariff 01062011 to be effective 1/18/2011.

Filed Date: 01/06/2011.

Accession Number: 20110106-5037.

Comment Date: 5 p.m. Eastern Time on Thursday, January 27, 2011.

Docket Numbers: ER11-2620-000.

Applicants: Community Wind North, LLC.

Description: Supplemental Information of Community Wind North, LLC.

Filed Date: 01/05/2011.

Accession Number: 20110105-5048.

Comment Date: 5 p.m. Eastern Time on Tuesday, January 25, 2011.

Docket Numbers: ER11-2633-000.

Applicants: Allegheny Energy Supply Company, LLC.

Description: Allegheny Energy Supply Company, LLC submits a request for authorization to make wholesale power sales.

Filed Date: 01/05/2011.

Accession Number: 20110106-0201.

Comment Date: 5 p.m. Eastern Time on Wednesday, January 26, 2011.

Docket Numbers: ER11-2634-000.

Applicants: Nevada Power Company.

Description: Nevada Power Company submits tariff filing per 35.13(a)(2)(iii): Rate Schedule No. 52 Amended & Restated Agreement for Supplemental Power Service to be effective 1/6/2011.

Filed Date: 01/06/2011.

Accession Number: 20110106-5065.

Comment Date: 5 p.m. Eastern Time on Thursday, January 27, 2011.

Docket Numbers: ER11-2635-000.

Applicants: Synergics Roth Rock Wind Energy, LLC.

Description: Synergics Roth Rock Wind Energy, LLC submits tariff filing per 35.1: Baseline Tariff to be effective 1/6/2011.

Filed Date: 01/06/2011.

Accession Number: 20110106-5082.

Comment Date: 5 p.m. Eastern Time on Thursday, January 27, 2011.

Docket Numbers: ER11-2636-000.

Applicants: Midwest Independent Transmission System Operator, Inc.

Description: Midwest Independent Transmission System Operator, Inc. submits tariff filing per 35.13(a)(2)(iii): (8) ATC Notice of Succession to be effective 2/9/2011.

Filed Date: 01/06/2011.

Accession Number: 20110106-5096.

Comment Date: 5 p.m. Eastern Time on Thursday, January 27, 2011.

Docket Numbers: ER11-2637-000.

Applicants: Synergics Roth Rock North Wind Energy, LLC.

Description: Synergics Roth Rock North Wind Energy, LLC submits tariff filing per 35.1: Baseline Tariff to be effective 1/6/2011.

Filed Date: 01/06/2011.

Accession Number: 20110106-5106.

Comment Date: 5 p.m. Eastern Time on Thursday, January 27, 2011.

Docket Numbers: ER11-2638-000.

Applicants: Oak Creek Wind Power, LLC.

Description: Oak Creek Wind Power, LLC submits tariff filing per 35.15: Ridge Crest Wind Partners, LLC Cancellation of MBR Tariff to be effective 9/30/2010.

Filed Date: 01/06/2011.

Accession Number: 20110106-5113.

Comment Date: 5 p.m. Eastern Time on Thursday, January 27, 2011.

Docket Numbers: ER11-2639-000.

Applicants: Ridge Crest Wind Partners, LLC.

Description: Ridge Crest Wind Partners, LLC submits tariff filing per 35.1: Ridge Crest Wind Partners, LLC MBR Tariff to be effective 9/30/2010.

Filed Date: 01/06/2011.

Accession Number: 20110106-5115.

Comment Date: 5 p.m. Eastern Time on Thursday, January 27, 2011.

Docket Numbers: ER11-2640-000.

Applicants: PJM Interconnection, L.L.C.

Description: PJM Interconnection, L.L.C. submits tariff filing per 35.13(a)(2)(iii): Removal of Schedule 9B of the PJM Operating Agreement to be effective 3/7/2011.

Filed Date: 01/06/2011.

Accession Number: 20110106-5118.

Comment Date: 5 p.m. Eastern Time on Thursday, January 27, 2011.

Docket Numbers: ER11-2641-000.

Applicants: Duke Energy Carolinas, LLC.

Description: Petition for Waiver of Duke Energy Carolinas, LLC.

Filed Date: 12/21/2010.

Accession Number: 20101221-5222.

Comment Date: 5 p.m. Eastern Time on Friday, January 14, 2011.

Docket Numbers: ER11-2642-000.

Applicants: FPL Energy South Dakota Wind, LLC.

Description: FPL Energy South Dakota Wind, LLC submits tariff filing per 35.1: South Dakota Wind Baseline Filing to be effective 1/6/2011.

Filed Date: 01/06/2011.

Accession Number: 20110106-5142.

Comment Date: 5 p.m. Eastern Time on Thursday, January 27, 2011.

Docket Numbers: ER11-2643-000.

Applicants: Entergy Power Ventures, L.P.

Description: Entergy Power Ventures, L.P. submits tariff filing per 35.15: Cancellation of EPV to be effective 1/1/2011.

Filed Date: 01/06/2011.

Accession Number: 20110106-5143.

Comment Date: 5 p.m. Eastern Time on Thursday, January 27, 2011.

Take notice that the Commission received the following land acquisition reports:

Docket Numbers: LA10-4-000.

Applicants: Munnsville Wind Farm, LLC; Stoney Creek Wind Farm, LLC.

Description: Site Control Report of Munnsville Wind Farm, LLC, et. al. for Q4 of 2010.

Filed Date: 01/06/2011.

Accession Number: 20110106-5083.

Comment Date: 5 p.m. Eastern Time on Thursday, January 27, 2011.

Take notice that the Commission received the following electric reliability filings:

Docket Numbers: RR10-12-000.

Applicants: North American Electric Reliability Corporation.

Description: Compliance Filing of the North American Electric Reliability Corporation in Response to the Federal Energy Regulatory Commission's September 3, 2010 Order Approving Petition and Directing Compliance Filing.

Filed Date: 12/01/2010.

Accession Number: 20101201-5273.

Comment Date: 5 p.m. Eastern Time on Monday, January 24, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2011-899 Filed 1-14-11; 8:45 am]

BILLING CODE 6717-01-P